DEPARTMENT OF LABOR

Employment and Training Administration

Workforce Investment Act: National Emergency Grants—Application Procedures

AGENCY: Employment and Training Administration, Labor.

ACTION: Notice of final guidelines for grant applications.

SUMMARY: The Employment and Training Administration of the U.S. Department of Labor (Department or DOL) is announcing policies and procedures for accessing National Emergency Grant (NEG) funds to implement programs pursuant to section 173 of the Workforce Investment Act (the Act or WIA), as amended. Applications prepared and submitted pursuant to these policies and procedures, received as discussed below, will be considered. Grant awards will be made only to the extent that funds remain available.

DATES: The grant application procedures described in these guidelines shall be effective immediately and shall remain in effect until further notice. The policy priorities articulated in the National Emergency Grants Employment and Training Guidance Letter NO.16-03 (TEGL 16-03), dated January 26, 2004, are in effect. Funds are available for obligation by the Secretary of Labor (the Secretary) under Sections 132 and 173 of the WIA, and Section 203 of the Trade Adjustment Assistance Reform Act of 2002. Applications will be accepted on an ongoing basis as the need for funds arises at the state and local levels. Applicants are strongly encouraged to submit applications as early as possible following official notification or occurrence of an eligible dislocation event.

ADDRESSES: In order to comply with the Government Paperwork Elimination Act, the Department is establishing an electronic process that will support both timely submission of applications for funding, in relation to worker eligibility for assistance, and timely processing of such applications. The electronic application procedures must be used to submit applications for NEG funding, once the system becomes operational on July 1, 2004. Once operational, e-applications will be made through the DOL/ETA Grantee Reporting System Internet Web site. Each state has been assigned a Personal Identification Number (PIN) by the Employment and Training Administration's Office of Technical Support, which will be needed to access the NEG electronic application. Appendix A contains copies of the required grant application forms. A user's guide on preparing and submitting a NEG application electronically will be available to eligible grant applicants from the ETA Regional Offices. Technical assistance on the application requirements is available from the appropriate Regional Office or from the Office of National Response, Employment and Training Administration, U.S. Department of Labor, Room N-5422, 200 Constitution Avenue, NW., Washington, DC 20210.

Prior to implementation of the e-application procedures, applications may be mailed, e-mailed or hand-delivered to: Office of Grants and Contract Management, Attention: E. Fred Tello, Grant Officer, U.S. Department of Labor, Employment and Training Administration, 200 Constitution Avenue, NW., Room N-4438, Washington, DC 20210, (202) 693-2879 (fax number), tello.fred@dol.gov. A copy of the application must be simultaneously mailed or delivered to the appropriate Regional Office(s) of the Employment and Training Administration. [A list of the Regional Offices is provided in Appendix B.] It is recommended that hard copy applications be sent via overnight mail or faxed to the attention of Mr. Tello. If sent by mail, please be advised that mail delivery in the Washington area may be delayed due to mail decontamination procedures.

FOR FURTHER INFORMATION CONTACT: Ms. Shirley M. Smith, Administrator, Office of National Response. Telephone: 292/693-3500. (This is not a toll free number).

SUPPLEMENTARY INFORMATION: The Department announces the availability of funds for grants to provide employment-related services and other adjustment assistance for dislocated workers and other eligible individuals as defined in Sections 101, 134 and 173 of WIA; Sections 113, 114 and 203 of the Trade Adjustment Assistance Reform Act of 2002. The application policies and procedures contained in this notice are issued pursuant to the WIA regulations at 20 CFR 671.140. The program announcement consists of two attachments:

Attachment I—The National Emergency Grants Policy Guidance Letter NO. 16-03 (TEGL 16-03), effective as of January 26, 2004, informs all eligible applicants of the policies and priorities that govern the award and use of the Secretary's discretionary funding.

Attachment II—The NEG Assistance-Application Guidelines which consists of eight parts:

• Part I provides background about the purpose and use of NEGs.

• Part II describes eligibility, including eligible circumstances for funding, eligible entities for grant awards, and individuals eligible for assistance.

• Part III identifies the policies governing project management and design requirements for NEGs.

• Part IV provides an overview of the application submission requirements for each type of NEG project.

• Part V identifies the elements in the application review process including the criteria that will be used to determine the appropriateness of the request for funds.

• Part VI describes alternative approaches to grant funding and the requirements associated with emergency funding requests and incremental funding actions.

• Part VII describes the follow-up, planning, oversight and reporting requirements for awarded grants.

• Part VIII describes the grant modification requirements and process.

In addition to the provisions of this announcement, applicants should note that funding actions are subject to the policies priorities articulated in Attachment I of this notice, and any subsequent policy guidance.

Applications for NEG funds may be submitted at any time. Awarded NEG funds may be expended during the months remaining in the Program Year in which the grant award is made plus the subsequent two Program Years. A Program Year is the twelve month period, July 1-June 30. The Employment and Training Administration expects that the project performance period in any NEG application will reflect a time efficient approach to returning eligible individuals to appropriate employment consistent with the performance goals and policies and priorities that apply to NEG projects. Generally, planned project durations should not exceed 24 months.

OMB Approval

Consistent with the Government Paperwork Elimination Act, the information collection, including the application and the reporting form will be, fully, in an electronic format. Electronic applications are intended to provide ease of completion as well as timely processing. The information in the grant application collection provides the grant officer with the necessary information to be able to make consistent and objective funding decisions based on the stated funding request evaluation criteria. The quarterly reports' information collection assures accountability and measures actual project performance to date. DOL is committed to making a decision to approve or disapprove all submitted requests for funding, which includes an initial application and monetary grant modifications such as requests for incremental funding, within 30 working days from receipt of a complete and responsive request.

These reporting requirements are approved by OMB under control number 1205-0439, expiring 1/31/2007. Send comments regarding this burden estimate or any other aspect of this collection of information, including suggestions for reducing this burden to the U.S. Department of Labor, Office of National Response, Room N-5422, Washington, DC 20210 (Paperwork Reduction Project 1205-0439).

Reference | Expected total respondents* | Frequency | Expected total responses* | Avg. time per response | Expected burden* (hours)
SF 424 | 150 | 1 per project | 150 | 45 minutes | 113.0
Narrative summary | 150 | 1 per project | 150 | 1.0 hour | 150.0
ETA 9103 | 150 | 1 per project | 150 | 90 minutes | 225.0
ETA 9105 | 75 | 1 per project | 75 | 30 minutes | 38.0
ETA 9106 | 150 | 1 per project | 150 | 1.0 hour | 150.0
ETA 9107 | 100 | 1 per project | 100 | 15 minutes | 25.0
TAA certification report | 50 | 1 per project | 50 | 30 minutes | 25.0
Reports: ETA 9104 | 150 | quarterly per project | 600 | 30 minutes | 300.0
Grant modifications | 140 | 1 per project | 140 | 30 minutes | 70.0
Total Hours |  |  |  |  | 1,096
* Actual number will vary, because the information collection is required to obtain a benefit.

Signed in Washington, DC on this 16th day of April, 2004.
Emily Stover DeRocco,
Assistant Secretary.

Attachment I—Training and Employment Guidance Letter No. 16-03

Employment and Training Administration, Advisory System, U.S. Department of Labor, Washington, DC 20210.

Classification: National Emergency Grants.

Correspondence Symbol: ONR.

Date: January 26, 2004.

To: All State Workforce Agencies, all State Workforce Liaisons, all State Rapid Response Coordinators, all State Trade Coordinators.

From: Emily Stover DeRocco, Assistant Secretary.

Subject: National Emergency Grant (NEG) Policy Guidance.

1. Purpose

To inform the state and local workforce investment system of the policies and priorities that will govern the award and use of the Secretary's discretionary National Emergency Grant (NEG) Dislocated Worker funds, pursuant to the Workforce Investment Act (WIA), Title I, Section 173, as amended.

2. References

• Workforce Investment Act (WIA), as amended

• Trade Adjustment Assistance Reform Act of 2002 (Public Law 107-210), Sections 201, 202 and 203

• WIA regulations at 20 CFR Part 671

• Training and Employment Guidance Letter (TEGL) No. 14-00, Change 1, “Guidance on the Workforce Investment Act (WIA) Management Information and Reporting System,” dated November 19, 2001

• Training and Employment Guidance Letter (TEGL) No. 10-02, “Use of National Emergency Grant Funds Under the Workforce Investment Act, as amended, to Develop Systems for Health Insurance Coverage Assistance for Trade-Impacted Workers,” dated October 10, 2002

• Training and Employment Guidance Letter (TEGL) No. 20-02, “Use of National Emergency Grant (NEG) Funds Under the Workforce Investment Act (WIA), as amended, to Support Health Insurance Coverage Assistance for Trade-Impacted Workers,” dated March 3, 2003

3. Background

National Emergency Grants (NEGs) are discretionary grants awarded by the Secretary of Labor (the Secretary), pursuant to Section 173 of WIA, as amended. Funds are awarded to provide employment-related services for dislocated workers as authorized under WIA Section 173 and 20 CFR part 671. Funds are reserved and made available for obligation by the Secretary under Sections 132 and 173 of WIA, as amended.

Within the next few months, the Department will publish new application guidelines for NEGs. The new guidelines will reflect the changes made as a result of comments received following the Office of Management and Budget Paperwork Reduction Act clearance process. In conjunction with the issuance of these new guidelines, ETA will implement electronic processes for submitting and reviewing all NEG applications. Use of the electronic application will be required by all applicants for all NEG applications and modifications beginning July 1, 2004 (Program Year 2004). The use of the electronic processes will facilitate a quicker review and processing of NEG applications. The policies articulated in this TEGL are in effect immediately for all application requests for NEG funds.

The new guidelines and the electronic application are designed to achieve timeliness in the application and award of NEG funds to enable dislocated workers to receive employment-related assistance early in their transition period. However, the Department expects that unexpended formula Dislocated Worker program funds will be used to initiate services for workers impacted by mass layoffs and plant closures and, depending upon the amount of unexpended funds, may be sufficient to provide all transition assistance required by workers affected by such layoffs. In addition to the submission requirements contained in the application guidelines, eligible applicants must use the policies and priorities framework communicated in this issuance in determining the appropriateness of NEG funding to respond to a dislocation event and in developing the project design for a proposed NEG application.

The application guidelines will define the basic requirements for NEGs: eligible events, eligible applicants, project types, allowable use of funds, criteria for evaluating applications, and project management. This issuance does not generally repeat those requirements; rather, it provides the policy context for awarding NEG resources and provides the priorities and expectations of ETA in terms of the use of this important source of funding assistance.

ETA is committed to supporting innovative strategies that will help dislocated workers, and the communities in which they live and work, recover economically from the effects of plant closures and mass layoffs. A primary strategy is building a demand-driven workforce system that integrates workforce investment activities with economic development initiatives. Strategies can include both short-term actions—such as responding to skills shortages—and longer-term actions—such as planning customized and other training strategies in support of business expansion and high-growth occupational employment. NEGs are a major tool in implementing these strategies. Another high priority is early intervention to enable workers to return to the workforce (including self-employment) at wages that are as close as possible to their layoff wages in order to help maintain workers' standard of living and promote the economic security of their communities.

This issuance highlights priorities that the Department is using in the award of NEG funds. The Department recognizes, however, that there may be instances where flexibility will be necessary. Therefore, in order to minimize the potential impacts on the timeliness goal, ETA strongly encourages and expects that the appropriate Regional Office will be contacted when an application is being developed that is outside the scope of the funding priorities articulated in this issuance.

4. Policy and Priority Framework for the Use of NEG Funds

a. Purpose of NEGs. NEGs are discretionary awards by the Secretary of Labor that are intended to temporarily expand service capacity at the state and local levels by providing time-limited funding assistance in response to significant dislocation events. Significant events are those that create a sudden need for assistance that cannot reasonably be expected to be accommodated within the on-going operations of the formula-funded Dislocated Worker program, including the discretionary resources reserved at the state level. NEG funds are not available to replenish general formula short-falls or fluctuations in the annual Dislocated Worker formula allotment, but must be used in response to specific dislocation events, and in accordance with the policies in this document (including formula expenditures). Maintaining adequate rates of expenditure of available formula funds on a program year-basis will be a major criterion in evaluating the need for NEG funding. These funds include those allocated to local areas as well as those reserved for both rapid response and statewide activities. (See Para. 4. m., below, for additional information.)

b. Eligible Dislocation Events. NEG funds are available for significant dislocation events that arise from the effects of economic globalization, business fluctuations and unexpected events (e.g., disasters). Since workers will be eligible for services (upon receipt of layoff notice or company announcement) when an application is submitted, all projects are expected to enroll/register all participants within six months of a grant award.

NEG applications covering the following dislocation events are accepted by ETA for consideration of NEG funding:

(1) A single company layoff of 50 or more workers. Priority in funding will be given to applications that document the participation of a large enough group of workers to sustain a separately-funded project. Generally, projects that serve less than 50 workers should be funded with formula Dislocated Worker program dollars, but ETA will examine the sustainability of projects serving smaller groups on a case-by-case basis.

(2) Multiple company layoffs, where the dislocations from each company impact 50 or more workers. Priority will be given to applications that demonstrate a sustainable project size. Generally, this standard will be deemed met with the documented planned participation of at least 50 workers from each qualified company. (See Para. 4.c., below, regarding layoffs at secondary firms and Para. 4.b.(4) for community impact applications.)

(3) Industry-wide layoffs from companies in the same industry as determined by the three-digit code level in the North American Industrial Classification System. Each layoff in an industry-wide application must have 50 or more workers unless the exception below is met. In order to ensure a consistent statewide approach, we expect to focus our funding of these projects on applications from state applicants. Priority will be given to applications that document the planned participation of 50 or more workers from each company of the identified companies when the affected workers are not in the same or geographically contiguous local workforce investment area(s). Exception: Where the dislocation events are in the same local workforce investment area—or geographically contiguous areas—one company must have a layoff of more than 50 workers, and other identified companies may have layoffs of less than 50 workers as part of the same application.

(4) Community impact projects to assist workers in a local workforce investment area (primarily rural) where the employer base is primarily small employers and multiple small dislocations over a six month-period have a significant impact on the unemployment rate of the local workforce area, as determined by the state. In order to ensure a consistent statewide approach, we expect to focus our funding on applications from state applicants. For single area states, a local commuting area or labor market area should be used. Priority will be given to applications where an increase in the unemployment rate of 1 percent has occurred in the affected local workforce area (or local commuter area or labor market area in single area states) over the previous six months. Each company and location must be identified as with other multiple company applications.

(5) Trade dual-enrollment projects with identified single or multi-company layoffs of more than 50 workers each, and where DOL has determined that workers were trade-impacted. The following policies and expectations apply to dual-enrollment applications:

(a) The application and review process for dual-enrollment projects will include consideration of annual planning estimates for expenditure in the year of allotment as issued by the Department for the trade program. This will strengthen the state's ability to project needs and manage Dislocated Worker funds, and improve ETA's ability to evaluate the need for additional training funds for trade-certified dislocated workers.

(b) The primary purpose of dual-enrollment projects is to provide trade-eligible dislocated workers with “wrap-around” services that are not available through the trade program, and state formula Dislocated Worker program funds are not sufficient to provide such services, including conducting a comprehensive assessment, developing individual re-employment plans, providing on-going case management, and providing supportive services (WIA core, intensive and supportive services). As described in Para. 4.m., below, we will take into account the state's success in meeting a 70 percent formula Dislocated Worker program expenditure rate when deciding whether to approve a NEG application.

(c) NEG funds may also be requested to provide training when the state demonstrates that it has spent or will spend by the end of the trade program's fiscal year its annual allotment, reserved trade funds are not available, and the requesting state is meeting the 70 percent expenditure requirement for Dislocated Worker program formula funds (see Para 4.m., below). Consideration of planning estimates and expenditure rates, and state effectiveness at operating the trade program will enable DOL to address resource requests in a timely and rational manner.

(d) Generally, NEG funds awarded for training will be used to fill a temporary gap in trade training funds to ensure that workers who have been appropriately assessed and need training to return to work will have access to such training as soon as possible after dislocation. Systems must be in place to seamlessly accommodate a change in the funding of training, as appropriate.

(e) Before a state applies for NEG funds for training trade-eligible workers, it must have evaluated its trade and WIA Dislocated Worker funds availability in the context of the above expenditure requirements. Any training proposed to be provided with NEG funds to trade-eligible workers must qualify under both the trade and the WIA programs.

(f) All dislocated workers, including those for whom trade petitions have been filed, are required to have access to rapid response, core and intensive services (paid with WIA or other resources available to a state). This assistance should be available prior to a determination of trade certification to limit the period of unemployment. Once a worker has been determined eligible for trade assistance, those services authorized under the trade program (approved training, job search and relocation allowances and transportation) should be funded with trade funds to the extent those funds are available. Participants must sign-off on their individual reemployment plans (including training as appropriate). Trade Readjustment Allowances (income support) are also paid under the trade program. It is the responsibility of state and local program managers to manage WIA and trade program funds in an integrated manner to best meet the needs of the workers and in accordance with all applicable trade and WIA statutes, regulations and federal policies. Discretionary funds, including both the trade reserved funds and NEG resources, may be requested as needed, using application procedures.

(g) In instances where a trade petition has been filed, but no determination has been made, such companies may be included in a NEG application indicating that a petition is pending. In addition, if dislocations impacting trade-certified workers also qualify for industry-wide or community impact projects, those application criteria will also apply, e.g., for a dual-enrollment application that also qualifies as industry-wide (where all layoffs are trade-impacted), an application would be required to have at least one company with 50 or more workers, but other companies could have less than 50 (under the exception criteria).

(6) Disaster applications. These applications require verification that the Federal Emergency Management Agency (FEMA) has declared a disaster area eligible for public assistance. The primary purpose of a disaster project is to create temporary employment to assist with clean-up activities. The initial award will restrict the clean-up period to six months from the date of grant award until there is a subsequent modification (e.g., fully documented plan or other request) that justifies a longer clean-up period. A state may include in its fully-documented plan, or modification request, a component for employment-related services. This component of a disaster project is for workers involved in the clean-up work who will not return to their prior employment. The application must demonstrate that the participants need employment-related assistance to return to work and that non-NEG resources are not available to provide such services. The employment-related component must provide information on the number of participants that require assistance, the type of assistance and the duration and planned performance goals. The application must also include the outcomes of those who will not require employment-related assistance through the NEG project.

(7) Trade Program—Health Coverage Tax Credit (HCTC) Infrastructure projects, pursuant to the authority in the Trade Act and WIA Section 173(f) and appropriation of funds to help states develop an infrastructure in support of the implementation and operation of the HCTC or health coverage assistance through the NEG “bridge” program. Application requirements are outlined in TEGL 10-02, issued on October 2, 2002.

(8) Trade Program—Health Coverage “Bridge” projects, pursuant to the authority in the Trade Act and WIA Section 173(g) and appropriation of funds to help states provide health coverage assistance through qualified health plans for trade-certified workers who are Trade Readjustment Assistance (TRA) recipients (including those who would be if they had exhausted UI); Alternative Trade Adjustment Assistance (ATAA) wage-subsidy recipients; as well as certain Pension Benefit Guaranty Corporation (PBGC) recipients. The application guidelines are described in TEGL 20-02, issued on March 3, 2003, and additional guidance is forthcoming.

c. Secondary Workers. When a regular NEG application is submitted for a primary company layoff of 50 or more workers (or multi-companies with 50 or more layoffs each) and the state makes a determination that there is a secondary worker layoff (including those with 50 or fewer workers being laid-off) where the primary layoff contributed importantly to the secondary layoff, the application may include the secondarily-impacted firm(s). The definition of secondary workers is contained in the NEG application guidelines. Tertiary workers will not be covered in a NEG project unless the dislocation qualifies for a NEG application on its own merits.

d. NAFTA Secondary Workers. Although the Trade Act amended the trade program for secondarily-impacted workers so they can access the same services as primary workers, the Department's policy of covering NAFTA secondary workers through NEGs, including needs-related payments, remains in effect for those who are covered under a certification issued prior to November 1, 2002, and for whom a petition has not been filed under the new law.

e. Rapid Response and Other Early Intervention Assistance. The value of early intervention assistance, including rapid response, in achieving positive employment and earnings outcomes for dislocated workers has been consistently demonstrated. ETA is committed to the principles of rapid response and other early intervention strategies for assisting dislocated workers as soon as they learn they are going to be laid off. For all regular (single-company, multi-company, industry-wide and community impact) and dual-enrollment projects, NEG applications are expected to reflect the results of the early intervention processes activated through a state's rapid response system.

To maximize the effectiveness of early intervention strategies for dislocated workers, states are strongly encouraged to use the flexibility contained in WIA to provide additional rapid response resources to local areas (WIA Section 134(a)(2)(A)(ii)). At a minimum, funds should be available to commence development of individualized re-employment plans and other required intensive and training employment-related assistance as soon as dislocated workers become eligible for WIA assistance, i.e., upon receipt of a notice of layoff or 180 days (6 months) prior to scheduled closure. Where state and local funds are not available (as reflected by expenditure levels), a NEG application should be submitted quickly to ensure funds are available as soon as possible.

If a trade-petition is being filed, the full array of early intervention services should not be delayed until a petition determination has been made. When provided early intervention assistance, workers will be ready to participate in eligible trade program services if an affirmative finding is rendered by DOL or continue needed assistance under WIA (formula or NEG) if there is a negative petition finding.

f. Linkage to Economic Development. The “power of e-3” is the ETA reference to the linkage of education, employment and economic development. Linkage with economic development initiatives is a key component for communities developing strategies to help workers, especially those workers affected by mass layoffs and plant closures. The development of any plan and request for NEG funding by a state or local community should be done in conjunction with economic development planning to support current and future economic growth in a community. Much of this planning can and should be done with rapid response and other resources, including any resources provided to states through the Economic Development Administration (EDA) at the U.S. Department of Commerce.

g. Quality Customer Service. ETA expects that NEG project designs will provide time-efficient strategies that return workers to appropriate employment as quickly as possible to reduce the adverse impact of the dislocation event on the workers and the local economy. Applications will be evaluated for reasonableness of costs and planned outcomes and timeliness of planned assistance. When NEG funds are requested, it is expected that systems are in place or will be in place quickly to accommodate the needs of the workers, including having temporary personnel available to provide assistance when needed by the workers. Delaying the enrollments of eligible workers over a protracted duration of time due to staffing or other limitations is not an acceptable program design.

NEG projects should take advantage of the pre-layoff eligibility of dislocated workers under WIA (i.e., as soon as an individual layoff notice is received or 180 days prior to a planned closure) and be designed to support employment and wage replacement goals focused on returning individuals to the workforce as soon as possible after layoff. Often, these workers possess high skills and are long-tenured and highly effective workers. Enhanced service strategies should be built into the project design for participants requiring more and longer assistance (such as for limited English-speaking populations or in severely impacted communities). At a minimum, project designs should be demand-driven so that workers are being trained for jobs with career and growth potential.

h. Integrated Service-Delivery. NEG projects should be designed to make maximum use of assistance and resources available through One-Stop partners (including “required” and “additional partners”), employers and other state and local organizations. (Under the Trade Act, the trade program is a “required” partner.) “Silo-based” service policies and procedures are not acceptable. Integrated policies, procedures and approaches will be reviewed and considered as part of the NEG application process.

i. Reprogramming of NEG Funds. Federal appropriations law generally prohibits the redirection or reprogramming of funds to serve target populations not originally identified as part of an original grant award (change in scope) or the re-award of returned funds to another grantee, if such actions are executed after the year of appropriation, or after the Department's authority to obligate funds have expired. For instance, Program Year 2003 appropriated funds (which include FY 2004 funds) may be reprogrammed until June 30, 2004, but not thereafter. To ensure that the Department has sufficient time to evaluate and act on such requests, grantees must manage the expenditure of NEG funds and take appropriate action to ensure effective use of the funds. Requests to reprogram excess NEG funds must be received by the Department no later than May 1 of the program year in which the NEG award was made. Therefore, generally, NEGs awarded in the last two months of a program year will not qualify for any reprogramming actions.

j. Incremental Funding. To minimize any end-of-project under-expenditure, applicants should expect that most NEG awards will be funded incrementally. In most cases, the initial increment will be for six months to enable a project to achieve full enrollment. The release of subsequent funding increments will be based on a demonstrated need for funds as evidenced by enrolled/registered participants and accrued expenditures. “Accrued expenditures” equal actual cash payments, plus the cost of services or goods that have been received or are being provided (e.g., the cost of a semester of tuition that has not been paid but participants are in training).

k. Performance Management Accountability. ETA will issue separate guidance on expectations for outcomes for participants served with NEG funds. ETA is announcing policy and will be issuing reporting instructions to implement common performance measures for all federal training and employment programs. The common measures will include entered employment, retention and earnings gain. Beginning July 1, 2004, the common performance measures will be implemented for NEG projects.

l. Cost Per Participant. Part of the evaluation of “reasonableness of costs” will be a comparison of the average cost per participant in a state's formula Dislocated Worker program with the proposed cost in a NEG application, excluding disaster projects and the NEG “bridge” program. In making such an evaluation, ETA recognizes that a two-year project with a limited number of participants may incur a greater cost per participant than the average annual cost for formula participants whose costs may be captured in more than one program year.

m. Formula Dislocated Worker Program Expenditures. The expected June 30 annual accrued expenditure rate (see Para. 4. j., above, for the definition of “accrued expenditures”) for Dislocated Worker formula program funds when applying for NEG resources is 70 percent of “total available” (prior year carryover plus annual allotment). A review of each state's success in meeting this rate will be conducted at the end of each program year and will be part of the review of a state's need for NEG funds as applications are received. Quarterly financial reports of formula Dislocated Worker program fund expenditures, as well as recent NEG project experience, will also be factors in determining fundability.

n. Assistance to Military Personnel. Assisting military personnel with the transition to the private workforce is a priority of both the Departments of Defense and Labor. However, except for BRAC-directed closures or realignments of military installations which involve significant dislocations, military personnel who are exiting military service are generally expected to seek and receive transition assistance through such programs using formula funds. This includes those who are completing their commitments as well as those who are being involuntarily, but honorably discharged. Generally, it is expected that the number of personnel is such that local formula funds are available to provide the transition assistance in coordination with veterans' programs available in nearly every community, in addition to the transition assistance provided by the military services and the Department of Labor's Veterans Employment and Training Service. Individuals being dislocated as a result of an announced military installation closure or realignment may be served with NEG funds pursuant to WIA Section 173(c)(2)(A).

o. Assistance to Military Spouses. NEG funds may be requested to serve military spouses who qualify as dislocated workers, including those who were required to leave jobs to accompany military spouse members for the convenience of the Government. The number of individuals affected within a six-month period must be provided by the appropriate military branch, and any request for NEG funds must include documentation that demonstrates that formula funds are not adequate to provide the needed level of assistance. Other spouses who do not qualify as dislocated workers under WIA should be served with WIA adult program funds.

p. Health Insurance Premiums. The Trade Act of 2002 amended WIA by adding Section 173(g), and appropriated funds to permit the use of NEGs to provide appropriate qualified health coverage assistance for eligible TAA (TRA) recipients, certain TAA individuals who have not exhausted UI benefits, ATAA wage subsidy participants, and certain PBGC recipients. Guidance was issued by the Department in TEGL 20-02 on March 3, 2003. However, based upon recent experience, further guidance is being developed and will be issued.

ETA's policy is that the limited resources available for regular NEGs will not be awarded to pay for health insurance premiums for dislocated workers who do not qualify under the trade program. NEG supportive service funds may be used to pay for emergency medical treatment and needs-related payments—where authorized by local workforce investment boards for the Dislocated Worker formula program. This income support can be used by participants to pay for insurance premiums and other personal expenses.

5. Incomplete Applications

As indicated above, ETA is committed to a shortened NEG application review and decision period through the use of an electronic application process. The electronic system will include edit checks to ensure that applications are complete. Incomplete applications will not be accepted. While this will not always assure that the document contains the information necessary to make funding decisions, we believe this will be an important step. In addition, prior to the implementation of the e-tool, in order to avoid unexplained delays in processing times, upon finding that an application is either incomplete (e.g., lacking SF-424, layoff/rapid response information, budgets, implementation schedules, etc.) or the application does not support the purpose being requested, ETA will send an e-mail to the applicant stating that the application cannot be considered for funding as submitted and will cite the deficiencies. Information to address the deficiencies must be transmitted to ETA by the official signatory. Submission of a complete and fully supported application will establish a new application date.

6. Other Terms

The Department may negotiate and fund projects under terms other than those specified in this TEGL and NEG guidelines, where it can be clearly demonstrated to the Department that such adjustments will achieve a greater positive benefit for the workers and/or the communities being assisted (20 CFR 671.170(b)(5)).

7. Action

NEG applications must be submitted in accordance with these policies and the application guidelines. Please ensure that local workforce investment boards, local elected officials, One-Stop Center operators, rapid response and trade coordinators and other appropriate staff involved in the submission of NEG applications or operation of NEG projects receive this issuance.

8. Inquiries

Questions regarding this transmittal should be directed to the appropriate Regional Administrator or to Ms. Shirley M. Smith, Administrator, Office of National Response, at (202) 693-3500.

Attachment II—Workforce Investment Act: Application Procedures for National Emergency Grants

Overview

The Employment and Training Administration (ETA) of the U.S. Department of Labor (DOL) is announcing policies and procedures for accessing funds to implement the National Emergency Grant (NEG) program under Section 173 of the Workforce Investment Act (WIA), as amended. Funds are available for obligation by the Secretary of Labor (the Secretary) under Sections 132 and 173 of the WIA, and Section 203 of the Trade Adjustment Assistance Reform Act of 2002. Applications will be accepted on an ongoing basis as the need for funds arises at the state and local levels. Applicants are strongly encouraged to submit applications as early as possible following official notification or occurrence of an eligible dislocation event. Grant awards will be made only to the extent that funds remain available.

This application package provides information and procedures by which eligible entities can apply for National Emergency Grant funds to provide workforce investment employment-related services and other adjustment assistance for dislocated workers and other eligible individuals as defined in Sections 101, 134 and 173 of WIA; Sections 113, 114 and 203 of the Trade Adjustment Assistance Reform Act of 2002; and 20 CFR 671.140. It consists of the following eight parts and two appendices:

• Part I provides background about the purpose and use of NEGs.

• Part II describes eligibility, including eligible circumstances for funding, eligible entities for grant awards, and eligible individuals for assistance.

• Part III identifies the policies governing project management and design requirements for NEGs.

• Part IV provides an overview of the application submission requirements for each type of NEG project.

• Part V identifies the elements in the application review process including the criteria that will be used to determine the appropriateness of the request for funds.

• Part VI describes alternative approaches to grant funding and the requirements associated with emergency funding requests and incremental funding actions.

• Part VII describes the follow-up planning, oversight and reporting requirements for awarded grants.

• Part VIII describes the grant modification requirements and process. Appendix A contains copies of the required grant application forms. The forms are in an electronic format to facilitate easy completion and timely submission of the application.

The Department is establishing an electronic process that will support both timely submission of applications for funding, in relation to worker eligibility for assistance, and timely processing of such applications. When the electronic system becomes operational it must be used to submit applications for NEG funding. Procedures for accessing and guidance for using the electronic system will be provided to eligible grant applicants through ETA's Regional Offices.

Appendix B contains a directory of Regional Office contacts.

Applications for NEG funds may be submitted at any time. Awarded NEG funds may be expended during the months remaining in the Program Year in which the grant award is made plus the subsequent two Program Years. A Program Year is the twelve month period, July 1-June 30. The Employment and Training Administration expects that the project performance period in any NEG application will reflect a time efficient approach to returning eligible individuals to appropriate employment consistent with the performance goals that apply to NEG projects. Generally, planned project durations should not exceed 24 months.

The application procedures, application review process, and project oversight and reporting requirements described in this notice are issued under the WIA regulations as 20 CFR 671.125.

For further information on these guidelines, you may contact Shirley M. Smith, Administrator, Office of National Response at (202) 693-3500. (This is not a toll-free number.)

Part I: Background

National Emergency Grants (NEGs) are discretionary awards by the Secretary of Labor. NEGs are time-limited interventions intended to temporarily expand the service capacity at the state and local area levels by providing funding assistance in response to significant dislocation events. NEGs are not intended to meet shortfalls that may occur in formula funding to states for dislocated worker assistance. States are expected to make full use of WIA and Wagner-Peyser formula funds that are allotted for dislocated worker and adult assistance, including the use of funds reserved at the state-level for Rapid Response and statewide activities and funds allocated among all local areas.

Responsive and responsible use of NEG funds requires a system-based collaboration between the state and local entities that are charged with providing assistance to workers affected by significant dislocation events and the federal agency that manages the national fund account. This collaboration must operate in a manner that “puts the right amount of money in the right place at the right time.” Inefficiencies in this collaboration are defined by delayed funding actions (i.e., in relation to the time at which services are needed by eligible workers), unexpended funds caused by inaccurate estimates of the amount of funding needed to respond to the dislocation event, and delayed, unresponsive implementation plans for assisting the affected workers. Correcting these inefficiencies is a shared responsibility by the applicant/grantee and ETA. A request for NEG funds is expected to flow from an analysis of the need for reemployment assistance generated by an eligible event taking into account funds available in the state and local areas to respond to the need.

The approach to NEG grant awards will be centered on quick turnaround initial funding actions where the following can be demonstrated:

• There is an eligible circumstance for funding, with a group of workers who are currently eligible to receive assistance.

• An early intervention strategy has been initiated.*

• Per-participant expenditure levels are consistent with the formula program experience in the proposed project service area.*

• There is a plan for timely enrollment of eligible workers into assistance and expenditure of requested funds.

• Overall project performance goals are consistent with supporting the achievement of the Secretary's goals for dislocated worker assistance.

• The state in which the project is to be implemented is maintaining an acceptable rate of usage of formula funding for dislocated worker assistance.*

[Note: * These do not apply to Disaster and Trade Health Coverage Assistance projects.]

The application submission requirements have been streamlined to focus on those information items and planning decisions that should be available and feasible within the time period in which some level of funding assistance is needed. DOL is committed to making a decision to approve or disapprove all submitted requests for funding, which include an initial application and monetary grant modifications such as requests for incremental funding, within 30 working days from receipt of a complete and responsive request. Note, however, that if the applicant chooses to submit an unsolicited revision to a previously submitted request that is undergoing review, the 30-day processing time period starts over. Additionally, because experience with worker dislocations has consistently demonstrated that actual project requirements often vary from initial planning assumptions (i.e., on factors such as participation levels and intensity of reemployment assistance needs), most NEG requests will be funded incrementally.

Although the streamlined application requirements will be sufficient to make an initial funding decision, particularly under an incremental funding approach, this information will not be sufficient for determining if there is a reasonable and appropriate plan for implementing the project. Therefore, as a condition of the grant award, recipients will be required to develop a more complete project operating plan, including executed project operator agreements, line item budgets, staffing plans and participant registration and assessment information. The operating plan should be completed and transmitted to the Regional Office within 90 calendar days after the grant award. Information contained in the operating plan and project implementation experience will be used by ETA to determine the full amount of NEG funding needed to adequately respond to the dislocation event.

Part II: Eligibility

A. Eligible Circumstances for Funding

NEG funds may be used to provide assistance in the following circumstances:

• Plant closures and mass layoffs affecting 50 or more workers at a single site of employment;

• Layoffs at several companies in a single local community including layoffs not meeting the single site criterion that, in total, have significantly increased the total number of unemployed individuals in the community. [This criterion will only apply at the local area level and the layoffs must be concentrated within the six months preceding the date of application.] Priority will be given to those applications where the layoffs resulted in an increase of 1 percent in the local area unemployment during the preceding 12 months.

• “Community” is defined as a designated local workforce investment area (LWIA). In cases including single state workforce areas, “community” is defined as a labor market area:

• Layoffs at multiple locations with employers who are in the same industry sector (defined at the three digit code level in the North American Industrial Classification system), of which at least one company must have a layoff of more than 50 workers, and other individual companies may have layoffs of less than 50 workers as part of the same application;

• Layoffs at multiple locations (multi—company) that occur within a 4—month period and in which each layoff impacts 50 or more workers;

• Closures and realignments of military installations;

• Emergencies or disasters that have been declared eligible for public assistance by the Federal Emergency Management Agency (FEMA); and

• Special assistance, including health insurance coverage assistance, to trade—impacted workers and other individuals eligible under the Trade Adjustment Assistance Reform Act of 2002.

The Secretary may determine that other circumstances are appropriate for NEG funding.

The provisions of WIA and the Regulations define four NEG project types:

• Regular, which encompasses plant closures, mass layoffs, multiple layoffs in a single community, multiple layoffs in an industry sector, other multi—company layoffs and closures or realignments of military installations.

• Disaster, which includes all natural and manmade disaster events that FEMA has declared eligible for public assistance. A declaration by the Governor of a state is not sufficient to receive funding assistance. A grant application may be submitted by the state if the Governor has requested such a declaration from the President but a grant award cannot be made without the appropriate FEMA declaration.

• Trade—WIA dual enrollment, which is intended to ensure that a full range of services is available to trade-impacted individuals where such services are not available through the regular Trade Adjustment Assistance program. To receive assistance with NEG funding, an individual is required to be eligible for dislocated worker assistance through WIA.

• Trade Health Insurance Coverage assistance, which provides special health insurance coverage assistance through partial payment of health insurance premium costs under approved plans, supportive services, and income assistance to targeted individuals defined in the Trade Adjustment Assistance Reform Act of 2002.

For Regular projects, applicants may submit a single application to cover eligible layoffs at multiple employers and/or employment sites. The acceptable conditions for multiple event applications are:

—Where the state is the applicant, independently eligible events (i.e., layoffs of 50 or more) that have occurred within the state during the 120-day period (4 months) preceding the date of application;

—Where a local board, or consortium of local boards, is the applicant, all layoffs must be within the service area of the local board, or the area covered by the consortium agreement, and must meet the 50 or more threshold and have occurred within the 120-day period preceding the date of application;

—An application for an industry-wide project which can include layoffs of less than 50 as long as the firms are within the three digit NAIC sector cited in the application;

—Layoffs at supplier firms to a primary firm that meet the definition of primary and secondary firms in the Trade Act. The application must plan assistance to the primary firms, where the layoff must be 50 or more, and to the supplier firm(s), where the number of layoffs may be less than 50.

When an application is being submitted for an industry-wide project, the applicant must indicate on the Project Synopsis that the eligible event is “industry-wide.”

B. Eligible Entities for Grant Awards

Entities that are eligible to receive a NEG grant for a Regular Project are:

1. For Eligible Intrastate Projects:

—The designated state WIA program grantee agency

—A LWIA (and its fiscal agent)—

—A consortium of local boards for adjoining local areas

—A designated organization receiving WIA funding through the Native American Program provision of the Act

2. For Interstate Projects:

—A consortium of local boards for adjoining local areas.

—A consortium of states.

For consortium arrangements, one of the eligible entities must be designated to serve as the grant applicant and recipient. Consortium arrangements must be supported by a formal Memorandum of Understanding (MOU) that is executed among the participating local boards/states.

DOL expects that states, as the entities responsible for ensuring the effective use of all funds within the state to respond to worker dislocations, will either assume the role of grantee or will work collaboratively with local board applicants to ensure an effective intervention strategy through Rapid Response and verify the need for the requested NEG funds to provide assistance to the eligible workers.

Eligible applicants for Disaster projects, projects to provide special assistance to trade-impacted workers (i.e., both Dual Enrollment and Health Insurance Coverage), and industry-wide projects are limited to states.

In those cases where the state is the grantee but the project will operate in one or more designated local areas, the state may want to consult with applicable local area Workforce Investment boards in the development of applications for NEG funds.

C. Eligible Individuals for Assistance

Individuals who are eligible for assistance vary by type of NEG project. The general categories of eligible individuals are:

1. A dislocated worker under WIA Section 101(9) is:

a. An individual who:

(1) Has been terminated or laid off, OR has received a notice of termination or layoff, from employment;

(2) Is eligible for or has exhausted entitlement to unemployment compensation, OR has been employed for a duration sufficient to demonstrate to appropriate staff of the One-Stop Center attachment to the workforce but is not eligible for unemployment compensation due to insufficient earnings or having performed services for an employer not covered under the state's unemployment compensation law; AND

(3) Is unlikely to return to a previous industry or occupation.

b. An individual who:

(1) Has been terminated or laid off, OR has received a notice of termination or layoff, from employment as a result of any permanent closure of, or any substantial layoff at, a plant, facility or enterprise; or

(2) Is employed at a facility at which the employer has made a general announcement that such facility will close within 180 days; OR is employed at a facility at which the employer has made a general announcement that such facility will close.

Note: Eligibility for other than Core Services requires an announcement by the employer that the facility will close within 180 days, or an individual layoff notice.

c. An individual who was self-employed but is unemployed as a result of general economic conditions in the community in which the individual resides or because of natural disasters, as defined by a state.

d. An individual who has been providing unpaid services to family members in the home and who:

(1) Has been dependent on the income of another family member but is no longer supported by that income; AND

(2) Is unemployed or underemployed and is experiencing difficulty in obtaining or upgrading employment.

2. A civilian employee of the Department of Defense or the Department of Energy employed at a military installation that is being closed, or that will undergo realignment, within the next 24 months. (WIA Section 173(c)(A)(ii))

3. An individual who is employed in a non-managerial position with a Department of Defense contractor, AND who is determined to be at risk of termination from employment as a result of reductions in defense expenditures, and whose employer is converting operations from defense to non-defense applications in order to prevent worker layoffs. (WIA Section 173(c)(A)(iii)

4. A member of the Armed Forces who:

a. Was on active duty or full-time National Guard duty;

b. Is involuntarily separated from active duty or full-time National Guard duty, OR is separated from active duty or full-time National Guard duty pursuant to a special separation benefits program or voluntary separation incentive program;

c. Is not entitled to retired or retained pay incident to the separation described in (b); AND

d. Applies for employment and training assistance before the end of the 180-day period beginning on the date of separation. (WIA Section 173(c)(A)(iv))

5. For Disaster Projects, an individual who is temporarily or permanently laid off as a consequence of a disaster event qualifying for public assistance through a FEMA declaration. (WIA Section 173(d)(2))

6. For Disaster Projects, an individual who is long-term unemployed, as defined by the state. (WIA Section 173(d)(2))

7. For Trade-WIA Dual Enrollment Projects, an individual covered by a certification under the Trade Adjustment Assistance Reform Act of 2002 who also qualifies as an eligible dislocated worker under the Workforce Investment Act, and is co-enrolled/registered in both trade and WIA.

8. For Trade Health Insurance Coverage Assistance Projects (WIA Section 173(f) and (g):

a. An individual who is eligible for a trade readjustment allowance (TRA) under the TAA program, or would be eligible for TRA except that he/she has not yet exhausted his/her unemployment insurance (UI) benefits and qualified family members of the eligible individual;

b. Certain recipients of pension benefits through the Pension Benefit Guaranty Corporation; and

c. Recipients of wage subsidies in the Alternative Trade Adjustment Assistance Program.

Not all of these groups are eligible for each type of NEG project assistance. The following table summarizes the relationship between eligible individuals and eligible NEG project types.

| Regular | Disaster | Trade adjustment assistance: Dual enrollment | Trade adjustment assistance: Health coverage & related
Dislocated Worker | X | X |  |
DoD/DoE Civilian Employee | X |  |  |
DoD Contractor Employee | X |  |  |
Member of Armed Forces | X |  |  |
Temporarily Laid off as Result of Disaster |  | X |  |
Long-term Unemployed |  | X |  |
Covered by a Trade Certification and Eligible for WIA |  |  | X |
Eligible for Trade Readjustment Assistance |  |  |  | X
Qualified Dependent of Eligible Trade-Impacted Worker |  |  |  | X
Certain PBGC Pension Recipient |  |  |  | X
ATAA Wage—subsidy Recipient |  |  |  | X

The number of affected workers cited in an application is limited to those individuals who meet one of the dislocated eligibility criteria at the time the application is submitted. NEG funds will not be provided for projected or anticipated layoffs. They must have been announced through WARN or other public announcement. As noted in Part VIII: Grant Modifications, grants may be modified to include subsequent layoffs that are within the scope of the approved grant award.

Part III: Administrative and Project Design Requirements

A. General

Grantee organizations, administrative entities, project operators and service providers are subject to the WIA law, regulations, grant application instructions, the terms and conditions of the grant and any subsequent modifications, and to all other applicable Federal laws (including provisions in Federal appropriations laws). Since eligible applicants are generally limited to states, Native American tribal entities and local boards that are established through WIA, NEG grantees will be subject to all administrative system requirements that apply to the use of WIA formula funds for dislocated workers, except as otherwise provided in these instructions or a grant award document.

B. Cost Limitations

Cost limitations for administrative and related project management expenditures (e.g., monitoring, technical assistance) shall apply to all NEG grant awards. These limitations shall apply to actual expenditures at the end of the grant. In general, a limit of ten (10) percent of total costs excluding the costs of needs-related payments (and, as applicable, health insurance coverage payments) will apply to all NEG projects. The WIA definition of administrative costs shall be used in determining compliance with the cost limit on all NEG grants.

On projects where services are being provided through one or more local area project operators, the ten percent cost limit will apply to project operator expenditures. In these projects the grantee may retain an additional amount to perform grant-level management and oversight functions. The amount to cover basic administrative functions such as record-keeping and reporting, procurement, audit, and general grant management activities should not exceed 1.5 percent of the total funding provided to project operators, excluding the costs of needs-related payments. This will not apply to the temporary employment component of Disaster projects.

Any costs associated with administering a system of needs-related or health insurance coverage payments must be separated identified in the application budget and justified in the narrative.

C. Indirect Costs

If an indirect cost rate is applied in calculating some of the costs at the grantee level, the applicant must include information from the most recent approval document that identifies the approved indirect cost rate and base, the cognizant approval agency, and the date of the approval. Indirect costs cited in the application should only be those that apply to the grantee. The grantee will be responsible for verifying the appropriate documentation to support any indirect rates that are applied in calculating costs at the project operator level. Indirect costs are a subset of total project costs; they may include administrative and program costs. Cost limitations apply to total project costs and are not applied separately to direct and indirect costs.

D. Early Intervention

For Regular and Dual Enrollment projects, all NEG applications are expected to be the result of an early intervention process that has been activated through the state's Rapid Response system. The early intervention process should include the use of formula funds to initiate services to eligible individuals. When formula funds have been used to provide services (excluding Rapid Response) to the eligible target group prior to grant award and the state is demonstrating an acceptable rate of expenditure of available formula funds (see Part III. K), the Grant Officer may authorize the use of NEG grant funds to reimburse the cost of such services.

However, pre-award costs will only be approved for appropriate expenses incurred from the date on which planned participants became eligible for services, and in no case will be approved for costs incurred before the date that is 120 calendar days prior to the date of receipt of the application by USDOL/ETA. Appropriate expenses for pre-award costs will be limited to the costs of direct costs for participants (core and intensive services, training and supportive services). Pre-award costs will not be approved for administrative or needs-related payment costs. Pre-award costs will not apply to Disaster or Trade Health Insurance Coverage projects.

For Regular projects, ETA expects that applications for NEG funding will be submitted within 120 calendar days (preferably sooner) of the date on which the target group of workers included in the application become eligible for assistance, or the dislocation event(s). In general, the initiation of early intervention activities will be a pre-condition for the award of NEG funds for Regular and Dual Enrollment projects. At a minimum, these activities should include contact with the affected workers and collection of information on the assistance needs of the workers.

If early intervention through Rapid Response has not been feasible, the applicant must document the circumstances that prevented initiation of early intervention in the application.

[Note: Applicants will be expected to actively pursue alternative methods of contact with workers and initiation of services in those cases where employer support and cooperation is limited or lacking.]

Applications for Disaster projects should be submitted within 30 calendar days of the occurrence of the disaster event. As discussed in Part VI of these guidelines, emergency applications (whether for a Regular or Disaster project) should be submitted within 15 calendar days of the FEMA declaration for public assistance eligibility.

E. Allowable Activities and Services

NEG funds may be used to provide services of the type described in Sections 134(d)(2), (3), (4) and (e)(2) and (3) of WIA, and pursuant to 20 CFR 671. Funds may not be used to pay for any costs of Core Services, as described in 134(d)(2), which have already been budgeted under available formula funds.

For Disaster projects, NEG funds may also be used for temporary disaster employment not to exceed six months (or 1,040 hours) for any single event; to help provide food, clothing, shelter and related humanitarian services; and to perform demolition, cleaning, repair, renovation and reconstruction of damaged and destroyed public structures, facilities and lands, located within the designated disaster area, as defined in the grant award document. A component may also be designed for employment-related assistance for participants who require help in returning to the workforce after completion of temporary employment.

For Trade Health Insurance Coverage Assistance projects, funds may be used for trade health insurance infrastructure and to pay health insurance premiums for certain trade-certified dislocated workers enrolled in a qualified health care plan as provided for in WIA Sections 173 (f) and (g). Additional guidance on the use of funds for these activities have been provided.

F. Project Design and Service Operations

1. Regular Projects

Policies regarding receipt of supportive services and needs-related payments will generally be consistent with the established policies and procedures of the local board(s) in the area in which the project is to operate as required in 20 CFR 671.140(c). ETA expects that such policies and procedures are flexible enough to respond to the needs of any eligible dislocated worker, including those who are eligible for assistance through NEG funding. For projects serving the same target population in more than two local areas, a policy may be developed based upon the combined policies of affected local areas as agreed to for an NEG project to ensure equitable services for a project's target population.

Where variations in program (core, intensive and/or training) policies (e.g., training caps, duration of training, self-sufficiency requirements) may be appropriate to respond to the needs of special populations (e.g., limited English speaking) who comprise the target group, these will have to be identified, explained and justified in the application narrative.

Projects that will operate on a consortium basis will be expected to establish a common set of service policies that will apply to the full project service area. Grantees and project operators will be expected to involve the applicable local board(s) of any approved variations in service policies that will apply to a NEG project.

2. Disaster Projects

The initial purpose of Disaster projects is temporary job creation to provide clean-up, restoration and humanitarian assistance to communities that have been affected by a disaster event. Temporary disaster jobs are limited to public and private non-profit agencies. An individual participant on a Disaster project may be employed for a maximum of six months, or 1,040 hours, whichever is longer. The maximum level of wages paid to a participant is generally limited to $12,000, excluding the cost of fringe benefits. Fringe benefits should be paid in accordance with the policies of the employer of record for temporarily employed workers. The wage cap does not assume that the individual is employed for the full six months or 1,040 hours. A higher hourly wage may be paid, as appropriate, for higher skilled positions as long as the wage limit is not exceeded on an individual participant basis. If a higher wage level limit for some participants is critical to the success of project clean-up efforts and cannot be accommodated within the above provision, the applicant may request a higher limit for the applicable positions from the Grant Officer.

Priority in filling the temporary jobs should go to individuals who have been dislocated, either permanently or temporarily, as a result of the disaster event. Other eligible participants for disaster projects are dislocated workers as defined in WIA Section 101(9) and long-term unemployed individuals (as defined by the state) to fill jobs that are needed in the clean-up and recovery effort. Where permanently dislocated workers and long-term unemployed individuals are employed in temporary jobs on a Disaster project, and they need reemployment assistance to return to the workforce upon completion of the temporary jobs, the grantee may request to modify the grant to use awarded funds, or request additional funding, to provide appropriate intensive, training and supportive services, as provided for in the grant award document. The description of these services will be subject to all of the provisions that apply to a Regular project with the exception of the early intervention requirement and the company layoff data (see Part IV.B.2).

3. Dual Enrollment Projects

The primary purpose of Dual Enrollment projects is to provide funding for employment-related assistance for trade-certified dislocated workers. Such assistance may include career counseling, case management and supportive services not authorized under the Trade Act. Also, under certain circumstances, funding may be awarded to provide training, as specified in a grant award document. Trade-certified workers receiving assistance under a NEG must be dual enrolled in both the trade program and WIA, in accordance with the requirements of both programs.

G. Reasonableness of Costs

For Regular and Dual Enrollment projects, and the workforce investment employment-related component of Disaster projects, the planned per participant cost will be expected to be within a reasonable range of the actual end-of-year average cost per participant for formula-funded dislocated worker activities in the planned service area during the most recent completed Program Year, or the state average if the project is designed to cover multiple local areas. The actual formula program cost per participant should equal the total expenditures during the Program Year divided by the total number of registrants reported for the PY. This actual cost per participant level must be entered on the Project Synopsis form in the application. ETA will provide a benchmark level for “reasonable range” through separate policy guidance.

H. Integration with Other Resources

Regular and Dual Enrollment projects should be designed to make maximum use of assistance available through One-Stop partners, employers, and other local organizations. In addition, grantees will be expected to make a maximum effort to assist each project participant with applying and qualifying for available sources of financial assistance, consistent with the provisions of Section 663.320 of the WIA Regulations.

I. Coordination With Trade Act Funds

ETA expects that states will have in place efficient procedures for dual enrollment of eligible workers in both the TAA and WIA programs, as partners in the One-stop system. Receipt of NEG funds to provide services to TAA eligible workers will be predicated on the existence of such procedures. However, NEG funds cannot be used to provide assistance to any individual who is not eligible as a dislocated worker under the provisions of WIA. The exceptions are the special eligibility categories for individuals to receive assistance under Trade Health Insurance Coverage infrastructure and bridge NEG projects, as authorized in the Trade Adjustment Assistance Reform Act of 2002 and its amendments to WIA.

Further, the use of NEG funds for training and supportive services, including relocation assistance, will generally be subject to the limitations and requirements delineated in WIA and regulations, including approved training provider lists and the use of Individual Training Accounts, or as specified in the grant award document.

J. Performance Outcomes

As discretionary grant awards by the Secretary, NEG projects must be designed to achieve performance outcomes that support the performance goal commitments by the Secretary under the Government Performance and Results Act (GPRA). ETA will provide target performance levels for NEG projects through separate policy guidance. Beginning July 1, 2004, NEG projects will be subject to the common measures for employment and training programs. Participants in temporary disaster jobs are expected to receive necessary assistance to return to the workforce.

K. Use of Available Formula Funds

For Regular and Dual Enrollment projects, and the workforce investment employment-related services component of Disaster projects, applicants must demonstrate that they are maintaining an adequate rate of expenditure of funds provided to the state through formula allotments. This will include all dislocated worker program formula allotment funds, including those reserved by the state for Rapid Response and statewide activities. [Note: ETA has provided flexibility to states in transitioning funds between the dislocated worker program and the adult program under WIA. It is assumed that states and local boards applying for NEG funds will have utilized transfer authority appropriately.] The rate of expenditure standard will be communicated by ETA through separate policy guidance. This requirement will not apply to the temporary disaster employment component of a Disaster project or to a Trade Health Insurance Coverage Assistance project.

L. Project Management

ETA expects that NEG-funded projects will be organized to provide the most responsive services from the perspective of the customer (i.e., the dislocated worker). There may be instances in which a project will operate in multiple local workforce areas covering the same company dislocation. The projects should be designed and managed to operate under a consistent set of service policies and procedures that are agreed to by all of the local boards involved.

On projects with multiple local project operators, ETA will award the grant to the state or to one of the local boards that has been designated as grant recipient through an agreement executed by all of the local boards involved. The grant will be structured to operate on a full service area basis. The program policies and procedures applying to the project can be those of the state, of the local board designated as grant recipient, or ones jointly developed by all of the local boards as part of the agreement. This principle will also apply to projects that will operate on an interstate basis; that is, an agreement will have to be executed among all of the involved states or local boards and the agreement will need to designate one of the entities to be the grant recipient, as well as identify the service policies and procedures that will apply. Supportive service policies and needs-related payment policies for NEG projects will be consistent with 20 CFR 671.140(c); however, where more than one local area is providing assistance through a NEG for the same target population, project operators may propose to implement policies that combine or use the policies of one local area, to ensure equitable treatment for workers from the same layoff.

Where a project will operate in more than one local area, the grantee will have the authority to modify project operator agreements and move funds among designated project operators consistent with where eligible workers are seeking services. Where this action changes the scope of responsibility for individual project operators, the grantee should submit a revised Project Operator Data Form to USDOL/ETA. This action is for information purposes and will not constitute a formal grant modification request (see Part VIII of these guidelines for conditions requiring a grant modification). This authority is further limited to cases where a grant modification would not be required.

M. Veterans' Priority

National Emergency Grants are subject to the provisions of the “Jobs for Veterans Act,” Public Law 107-288, which provides priority of service to veterans and certain of their spouses in all Department of Labor-funded job training programs. To obtain priority of service, a veteran must meet the program's eligibility requirements, and for NEG projects must be a dislocated worker from the approved target population of a grant. Since NEG applications should be developed to assist all eligible individuals who are in need of assistance from the target population, this provision should not significantly change the planning and operation of NEG projects.

Part IV: Application Submission Requirements

To be considered for funding, an application must include the information identified in this section. The information requirements are organized by type of NEG project since the requirements vary by project type.

A. Regular Projects

1. Completed and signed SF 424—Application for Federal Assistance. This form is the required application for federal funds. Under the electronic system, the authorized signatory of the applicant will be issued a unique Personal Identification Number (PIN). The entry of this PIN on the SF 424 constitutes the authorized signature.

2. Project Synopsis Form (ETA 9106). This form summarizes key aspects of the proposed project such as project type, type of eligible event, key contact information, planned number of participants, performance goals, and historical and planned cost per participant levels.

3. Employer Data Form (ETA 9105). This form provides employer and dislocation site-specific information needed to validate the eligibility of the dislocation event(s) and the target group of workers for NEG assistance. Information includes name and location of employer, date and type of worker notification, date(s) of layoff and number of workers affected, date(s) and types of Rapid Response activities, and number of planned participants.

4. Project Operator Data Form (ETA 9107). This form includes key contact and project scope information (e.g., number of participants, total budget, service area) for each project operator. This form must be completed and submitted only to the degree that Project Operators have been identified at the time of application. This information should be submitted as Project Operators are identified and agreements executed. Except in disaster emergency situations, it is expected that Project Operators will have been identified at the time the application is submitted, and the contact information on the form should be completed.

5. Planning Form (ETA 9103). This form provides cumulative quarterly estimates on project scope (e.g., number of participants, exits), design (e.g., mix of enrollments in activities), and use of funds (e.g., planned expenditures by type of program activity, administration).

Where approval of pre-award costs is being requested in the application, a separate column on the Planning Form should be used to identify the pre-award service costs.

6. Narrative. This section facilitates the applicant being able to provide any explanations/justifications needed for entries in the above forms. Narrative explanations are required in the following instances:

—A notification was made by the employer but no Rapid Response activities have been initiated.

—Some of the affected layoffs have occurred more than four months prior to the date of submission of the application, and additional information is required to document that workers are in need of and available for employment-related assistance.

—The application is being submitted to address “community impact layoffs.” The narrative must provide specific information in relation to the requirements for meeting this criterion (see the definition in Part II. A).

—The number of affected workers that will be enrolled as participants is a higher percentage than has been historically served through NEGs (i.e., 50 percent).

—The planned average cost per participant on the project is outside a reasonable range of the actual average cost per participant for formula-funded dislocated worker activities, as appropriate, for the most recent completed Program Year.

—There are participants planned to receive NRPs, which requires explaining how the planned number of recipients and the NRP cost per participant were determined.

—Indirect costs are included in the application, which requires identifying the following: cognizant approval agency, approved cost rate and base, and date of approval.

—Administrative costs related to NRPs are included in the budget, which requires explaining how the administrative cost estimate was derived (i.e., based on number of check payments and check processing costs).

—Administrative and/or Other costs are included, which requires a delineation of the components (e.g., staffing, travel, facilities) and amounts of such costs. The applicant is free to include narrative explanations of other special factors, but the narrative should be concise and informative in relation to the application evaluation criteria.

7. Funds Usage. This information will not be required where the state in which the applicant is located expended a satisfactory level (see Part III.K) of the available formula funds in the most recent completed Program Year and is on target to expend a satisfactory level of the available formula funds for the current Program Year, based on quarterly expenditure reports submitted to USDOL/ETA (i.e., the ETA 9076 B and F).

Where this criterion cannot be met, the applicant will need to demonstrate through more complete and current financial information that it will expend a satisfactory level of available funds in the current Program Year by the end of the Program Year. This information should be included as an attachment to the grant submission. Information should present the financial status through the most recent month in the Program Year for which information is available and should include, at a minimum, total available funds, accrued expenditures to date, committed but unexpended funds in ITAs of currently enrolled participants, and the amount of the unexpended ITA funds that are expected to be expended by the end of the Program Year. This information should be presented separately for each local area that is included in the proposed service area for the project and for the funds reserved by the state for Rapid Response and statewide activities.

B. Disaster Projects

An initial application for a Disaster project should only address the temporary job creation component. Although workforce investment employment-related services may be provided to project participants who need them following employment in the clean-up, restoration and humanitarian assistance effort, the fully documented plan or a separate modification request to use NEG funds to provide these services will be required, as described in the grant award. This submission should occur at the point in time at which an adequate assessment of the need for workforce investment employment-related assistance has been completed (generally no more than 4-6 months after the initial grant award). Where this request includes approval for additional funding for the project, it will require a separate approval by the Secretary. The following identifies the submission requirements for each of these requests:

1. Initial Request: Temporary Disaster Jobs

a. Completed and signed SF 424-Application for Federal Assistance. This form is the required application for federal funds. Under the electronic system, the authorized signatory of the applicant will be issued a unique Personal Identification Number (PIN). The entry of this PIN on the SF 424 constitutes the authorized signature. The requested funds on the form should apply only to the temporary job creation component of the project.

b. Project Synopsis Form (ETA 9106). This form summarizes key aspects of the proposed project such as project type, type of eligible event, key contact information, types of eligible individuals to be included in the target group for the project, planned number of participants, and contact information. This form includes an entry for the FEMA declaration that identifies the event as eligible for public assistance, which qualifies the event as eligible for NEG assistance. This may not be available at the time the application is submitted and, if not, will be entered by DOL/ETA. Entries will not be required for: Planned Cost per Participant, % of Planned Participants Receiving NRPs, Planned Entered Employment Rate, Actual Cost per Participant in Prior Program Year, and Planned Wage Replacement Rate.

c. Project Operator Data Form (ETA 9105). This form includes key contact and project scope information (e.g., number of participants, total budget, service area) for each project operator. This form must be completed and submitted only to the degree that Project Operators have been identified at the time of application. This information should be submitted as Project Operators are identified and agreements executed.

Although most Disaster project applications will be submitted on an emergency basis, if an application is not submitted as an emergency request, it is expected that Project Operators will have been identified at the time of application, and the contact information on the form should be completed.

d. Planning Form (ETA 9103). This form provides cumulative quarterly estimates on project scope (e.g., number of participants, exits), design (e.g., mix of enrollments in activities), and use of funds (e.g., planned expenditures by type of program activity, administration). For the temporary job creation component, the only allowable activities are “Employed in Temporary Disaster Relief Assistance” and “Receiving Supportive Services.” Allowable expenditure categories are “Participant Wages,” “Participant Fringe Benefits,” “Supportive Services” and “Administration.”

e. Narrative. This section facilitates the applicant being able to provide any explanations/justifications needed for entries on the above forms. Narrative explanations will be required in the following instances:

—There are planned positions where the per participant wage exceeds the limits established in these guidelines.

—Indirect costs are included in the application, which requires identifying the following: cognizant approval agency, approved cost rate and base, and date of approval.

—Administrative and/or Other costs are included, which requires a delineation of the components (e.g., staffing, travel, facilities), and amounts of such costs.

The applicant is free to include narrative explanations of other special factors, but the narrative should be concise and informative in relation to the application evaluation criteria.

2. Modification or Additional Request: Workforce Investment Employment-Related Services for Disaster Project Participants

Where a significant number of permanently dislocated and/or long-term unemployed individuals have been temporarily employed in clean-up, restoration and humanitarian assistance activities, and there are not sufficient formula funds to provide needed assistance to transition them into permanent employment, the Department will consider a request to use approved but unneeded project funds, and/or a request for additional NEG funds, to provide reemployment assistance. It is expected that the grantee will make an assessment of this need sometime between the hiring of the individuals into the temporary jobs and the completion of the temporary employment. Thus, this request should generally be submitted four to six months following the grant award for the temporary job creation. The submission requirements are:

a. If additional approved funding is being requested, completed and signed SF 424—Application for Federal Assistance. Entries on this form should indicate a revision to an existing grant to increase the approved funding and project duration. The entry in “Descriptive Title of Applicant's Project” should include the grant number for the initial award. The requested funding amount should be for the additional request only.

b. Project Synopsis Form (ETA 9106). This form summarizes key aspects of the proposed project such as project type, type of eligible event, key contact information, types of eligible individuals to be included in the target group for the project, planned number of participants, performance goals, historical and planned cost per participant levels for workforce investment employment—related services, and contact information.

c. Project Operator Data Form (ETA 9105). This form includes key contact and project scope information (e.g., number of participants, total budget, service area(s)) for each project operator. Project operators should be known at the time this request is submitted.

d. Planning Form (ETA 9103). This form provides cumulative quarterly estimates on project scope (e.g., number of participants, exits), design (e.g., mix of enrollments in activities), and use of funds (e.g., planned expenditures by type of program activity, administration). Entries on this form should apply only to the participants, activities and expenditures for this component (i.e., should not include the information relating to the temporary job creation component, unless there is a need to modify previously submitted information for this component).

e. Narrative. This section facilitates the applicant being able to provide any explanations/justifications needed for entries on the above forms. Narrative explanations will be required in the following instances:

—The planned average cost per participant is outside a reasonable range of the actual average cost per participant for formula—funded dislocated worker activities in the planned service area for the most recent completed Program Year.

—Either the planned entered employment rate or the planned average wage replacement rate is less than the established NEG performance goals.

—There are participants going to receive NRPs, which requires explaining how the planned number of recipients and the NRP cost per participant were determined.

—Indirect costs are included in the application, which requires identifying the following: cognizant approval agency, approved cost rate and base, and date of approval.

—Administrative costs related to NRPs are included in the budget, which requires explaining how the administrative cost estimate was derived (i.e., based on number of check payments and check processing costs).

—Administrative and/or Other costs are included, which requires a delineation of the components (e.g., staffing, travel, facilities) and amounts of such costs.

The applicant is free to include narrative explanations of other special factors, but the narrative should be concise and informative in relation to the application evaluation criteria. This should include information on the status of other participants who may have worked in the temporary jobs, e.g., returned to former employment, continued participation in the formula dislocated worker program, found other employment, etc.) It is expected that all disaster program participants will receive the assistance necessary, either through the formula program or through NEG assistance, to return to the unsubsidized workforce.

f. Funds Usage. This information will not be required where the state in which the applicant is located expended a satisfactory level (see Part III. J) of the available dislocated worker formula funds “ and if the target group includes long—term unemployed, available adult formula funds—in the most recent completed Program Year and is on target to expend a satisfactory level of the available formula funds for the current Program Year, based on quarterly expenditure reports submitted to USDOL/ETA (i.e., the ETA 9076 B, E and F).

Where this criterion cannot be met, the applicant will need to demonstrate through more complete and current financial information that it will expend a satisfactory level of available funds in the current Program Year by the end of the Program Year. This information should be included as an attachment to its grant submission. Information should present the financial status through the most recent month in the Program Year for which information is available and should include, at a minimum, total available funds, accrued expenditures to date, committed but unexpended funds in ITAs of currently enrolled participants, and the amount of the unexpended ITA funds that are expected to be expended by the end of the Program Year. This information should be presented separately for each local area that is included in the proposed service area for the project and for the funds reserved by the state for Rapid Response and statewide activities.

C. Trade—WIA Dual Enrollment Projects

a. Completed and signed SF 424—Application for Federal Assistance. This form is the required application for federal funds. Under the electronic system, the authorized signatory of the applicant will be issued a unique Personal Identification Number (PIN). The entry of this PIN on the SF 424 constitutes authorized signature.

b. Project Synopsis Form (ETA 9106). This form summarizes key aspects of the proposed project such as project type, key contact information, planned number of participants, and performance goals.

c. Employer Data Form (ETA 9105). This form provides employer and dislocation site-specific information needed to validate the eligibility of the dislocation event(s) and the target group of workers for NEG assistance. Information includes name and location of employer, date and type of worker notification, date(s) of layoff and number of workers affected, date(s) and types of Rapid Response activities, and number of planned participants.

d. Project Operator Data Form (ETA 9107). This form includes key contact and project scope information (e.g., number of participants, total budget, service area) for each project operator. This form must be completed and submitted only to the degree that Project Operators have been identified at the time of application. This information should be submitted as Project Operators are identified and agreements executed. However, it is expected that Project Operators will have been identified at the time that the application is submitted and the contact information on the form should be completed.

e. Planning Form (ETA 9103). This form provides cumulative quarterly estimates on project scope (e.g., number of participants, exits), design (e.g., mix of enrollments in activities), and use of funds (e.g., planned expenditures by type of program activity, administration). Where approval of pre-award costs is being requested in the application, a separate column on the Planning Form should be used to identify the pre-award service costs.

f. Narrative. This section facilitates the applicant being able to provide any explanations/justifications needed for entries on the above forms. Narrative explanations will be required in the following instances:

—No Rapid Response activities have been initiated.

—Some of the affected layoffs have occurred more than four months prior to the date of submission of the application, and additional information is required to document that workers are in need of and available for employment-related assistance.

—The number of affected workers that will be enrolled as participants is a higher percentage than has been historically served through NEGs (i.e., 50 percent).

—The planned average cost per participant on the project is outside a reasonable range of the actual average cost per participant for formula-funded dislocated worker activities, as appropriate, for the most recent completed Program Year.

—Indirect costs are included in the application, which requires identifying the following: cognizant approval agency, approved cost rate and base, and date of approval.

—Administrative and/or Other costs are included, which requires a delineation of the components (e.g., staffing, travel, facilities) and amounts of such costs.

The applicant is free to include narrative explanations of other special factors, but the narrative should be concise and informative in relation to the application evaluation criteria.

f. TAA Certification Report. The applicant must include, as an attachment to its grant submission, information which identifies the trade certified petition number(s) for the workers included in the target group for the project. In cases where a petition has been filed but the certification is pending, identify the trade petition number and the date the petition was filed. This file must also include a description of the Rapid Response provided to each of the cited trade petition situations.

g. Funds Usage. This information will not be required where the state in which the applicant is located expended a satisfactory level (see Part III. J) of the available dislocated worker formula funds in the most recent completed Program Year and is on target to expend a satisfactory level of the available dislocated worker formula funds for the current Program Year, based on quarterly expenditure reports submitted to USDOL/ETA (i.e., the ETA 9076 B and F).

Where this criterion cannot be met, the applicant will need to demonstrate through more complete and current financial information that it will expend a satisfactory level of available funds in the current Program Year by the end of the Program Year. This information should be included as an attachment to its grant submission, and include, at a minimum, the current status (i.e., through the most recent month in the Program Year for which information is available) of available funds for the Program Year, accrued expenditures to date, committed but unexpended funds in ITAs of currently enrolled participants, and the amount of the unexpended ITA funds that are expected to be expended by the end of the Program Year. This information should be presented separately for each local area that is included in the proposed service area for the project and for the funds reserved by the state for Rapid Response and statewide activities.

D. Trade Adjustment Assistance Projects (WIA Section 173(f) and (g): Health Insurance and Related Assistance

These projects are limited to assistance to eligible individuals as identified in the Trade Adjustment Assistance Reform Act of 2002. These NEG funds are primarily:

—To pay for 65 percent of the advance costs of health insurance premiums for eligible individuals in a “bridge” program in coordination with the Internal Revenue Service's Health Coverage Tax Credit (HCTC) program, as provided for in Section 173(g) of the Workforce Investment Act, as amended by the Trade Adjustment Assistance Reform Act of 2002.

—To pay for health insurance infrastructure as needed by states to implement the system. Instructions for applying for NEG funds to pay the costs of allowable system-building activities under Section 173(f) have been separately issued in Training and Employment Guidance Letter (TEGL) 10-02; instructions for the bridge program have been issued in TEGL 20-02, and further guidance is pending.

a. Completed and signed SF 424-Application for Federal Assistance. This form is the required application for federal funds. The authorized signatory of the applicant will be issued a unique Personal Identification Number (PIN). The entry of this PIN on the SF 424 constitutes the authorized signature.

b. Project Synopsis form (ETA 9106). This form summarizes key aspects of the proposed project such as project type, planned number of participants, and contact information. It also includes identification of the types of health insurance coverage options that will be available to project participants.

c. Planning Form (ETA 9103). This form provides cumulative quarterly estimates on project scope (e.g., number of participants, exits), design (e.g., mix of enrollments in activities), and use of funds (e.g., planned expenditures by type of program activity, administration).

d. Narrative Summary. Describe steps taken to consult and coordinate with appropriate state executive agencies and other appropriate parties in order to ensure that the use of NEG funds to provide health coverage assistance to eligible individuals will be consistent with the policies and procedures of those agencies. A narrative explanation must also be provided in cases where one or more of the following are reflected in the project plan:

—Indirect costs are included in the budget, which requires identifying the following: cognizant approval agency, approved cost rate and base, and date of approval.

—Administrative costs related to processing payments for qualified health insurance coverage are included in the budget, which requires explaining how the administrative cost estimate was derived (i.e., based on number of check payments and check processing costs).

—Administrative and/or Other costs are included, which requires a delineation of the components (e.g., staffing, travel, facilities) and, amounts of such costs.

The applicant is free to include narrative explanations of other special factors, but the narrative should be concise and informative in relation to the application evaluation criteria.

e. TAA Certification Report. The applicant must include, as an attachment to its grant submission, information which identifies the trade certification number(s) for the workers included in the target group for the project. In cases where a petition has been filed but the certification is pending, identify the trade petition number and the date the petition was filed.

Part V: Application Review Process

To be considered for funding, an application must demonstrate that the proposed project meets the purpose of and is consistent with the Act and Regulations and provides all of the information required by these guidelines. Applications that are not completely in accordance with the requirements or do not contain all required submission forms will not be considered as submitted and will not be evaluated for funding until all required information and documentation is provided. Complete applications will be evaluated for responsiveness to the criteria identified in this part. Just as with the submission requirements, the criteria are generally similar for each type of NEG project but there are variations. The specific criteria by type of project are itemized in the following sections.

A. Regular Projects

1. Eligibility: To ensure that NEG funds are only awarded to eligible dislocation events and where there is a verifiable target group that is both eligible and in need of assistance:

a. Information demonstrates that the dislocation events cited are eligible for NEG funding.

b. Information demonstrates that identified workers in the target group are currently eligible for assistance.

c. Information indicates that the affected workers are still in need of assistance.

2. Early Intervention: To ensure that required Rapid Response is being implemented:

a. Information indicates that timely and appropriate Rapid Response actions have been taken.

b. Information indicates that some effort has been made to contact affected workers and/or their representatives.

3. Reasonableness of Proposed Services and Costs: To ensure that NEG projects are designed and operated in accordance with the federal requirements and the state and local policies that apply to formula-funded dislocated worker programs in the proposed project area, OR, if different, that they are fully justified in terms of target group and reemployment barriers, as discussed earlier:

a. The planned average cost per participant for the project is within a reasonable range of the actual cost per participant reported for the prior Program Year.

b. The percentage of planned participants receiving needs-related payments (NRPs) in the project and the NRP cost per participant are justified in terms of formula program experience, or UI level for the target group proposed in NEG application.

c. The indirect costs are justified by identifying: (1) The approved indirect cost rate and base; (2) the cognizant approval agency; and (3) the date of the approval.

d. The ratio of planned participants to affected workers is reasonable in light of prior experience with NEG projects and with the results of Rapid Response/early intervention activities.

e. Total administrative and project management costs are within the cost limitations at both the state and local project levels.

4. Timeliness of Assistance: To ensure that project implementation will reflect timely assistance to affected workers, consistent with the initiation of Rapid Response and other early intervention activities; and to ensure that the rate of expenditures is consistent with rate of on-board participants by service type (e.g., core/intensive, training):

a. All planned participants are enrolled in the project within 180 days of grant award, i.e., the implementation schedule shows all enrollments by the end of the first six months of project operation or an explanation as to why this is not feasible.

b. All planned enrollments in training occur such that training can be completed within the project performance period.

c. Cumulative rates of expenditures quarter-to-quarter are reasonable given the cumulative level of enrollments for those: receiving intensive services, enrolled in training, receiving supportive services, and/or receiving needs-related payments, as applicable.

5. Adequacy of Planned Performance: To verify that planned performance for NEG projects is appropriate identify that the:

a. The planned levels of performance on each applicable performance measure are consistent with the established NEG performance goals; OR

b. The application includes specific employment barriers-related information on the project's target group to justify a lower level of performance.

6. Need for Funds: To ensure that other funds are not available and/or have not been committed to help meet the needs of the workers covered in the application.

a. Available information indicates that the state, or applicant, is maintaining an acceptable rate of expenditure of available WIA and Wagner-Peyser formula funds.

B. Disaster Projects

[The following criteria will apply to the initial request for funds for temporary disaster jobs to provide clean up, restoration and humanitarian assistance. A modification to provide workforce investment employment-related services to project participants will be evaluated by the same criteria used for Regular projects, except for the early intervention requirement.]

1. Eligibility. To ensure that NEG funds are only awarded to eligible dislocation events and where there is a verifiable target group that is both eligible and in need of assistance:

a. FEMA has issued a public declaration that the event is eligible for public assistance.

2. Reasonableness of Proposed Services and Costs. To ensure that NEG projects are designed and operated in accordance with the federal requirements and policies:

a. Information in the application is consistent with the statutory employment duration limitations and expected wage limit on temporary employment activities.

b. The indirect costs are justified by identification of: (1) The approved indirect cost rate and base; (2) the cognizant approval agency; (3) the date of the approval.

c. Total administrative costs are within the cost limitation.

3. Timeliness of Assistance. To ensure that project implementation will reflect timely response to the emergency situation:

a. All planned temporary jobs are filled within the first three quarters of project operation.

C. Trade—WIA Dual Enrollment Projects

1. Eligibility. To ensure that NEG funds are only awarded to eligible dislocation events and where there is a verifiable target group that is both eligible and in need of assistance:

a. Trade certifications and/or other appropriate documentation to demonstrate eligibility is provided in the application or can be accessed from other sources in DOL/ETA.

2. Early Intervention. To ensure that required Rapid Response is being implemented:

a. Information indicates that timely and appropriate Rapid Response actions have been taken.

b. Information indicates that some effort has been made to contact affected workers and/or their representatives.

3. Reasonableness of Proposed Services and Costs. To ensure that NEG projects are designed and operated in accordance with the applicable federal requirements and the state and local policies in the proposed project area(s):

a. The indirect costs are justified by identifying: (1) The approved indirect cost rate and base; (2) the cognizant approval agency; (3) the date of the approval.

b. Total administrative costs are within the cost limitation.

4. Adequacy of Planned Performance: To verify that planned performance on NEG projects appropriate.

a. The planned levels of performance on each applicable performance measure consistent with the established NEG performance goals; OR

b. The application includes specific employment barriers-related information on the project's target group to justify a lower level of performance.

5. Timeliness of Assistance: To ensure that project implementation will reflect timely assistance to affected workers, and ensure that the rate of expenditures is consistent with rate of on-board participants by service type (e.g., core/intensive, training).

a. All planned participants are enrolled in the project within 180 days of grant award.

b. All planned enrollments in training (as authorized by grant award) occur such that training can be completed within the project performance period.

c. Cumulative rates of expenditures quarter-to-quarter are reasonable given the cumulative level of enrollments for each of: receiving intensive services, enrolled in training, and receiving supportive services.

6. Need for Funds. To ensure that other funds are not available and/or have not been committed to meet the needs of the workers covered in the application:

a. No other funding has been committed to provide the same services to the same target group.

b. Available information indicates that the state is maintaining an acceptable rate of expenditure of available formula and trade training funds.

D. Trade Health Insurance Coverage and Related Assistance Projects

1. Eligibility. To ensure that NEG funds are only awarded to provide health coverage assistance and supportive services to eligible trade-impacted workers and other eligible individuals, as specified in the Trade Adjustment Assistance Reform Act of 2002:

a. Trade certifications and/or other appropriate documentation to demonstrate eligibility is either provided in the application or can be accessed from other sources in DOL/ETA.

2. Reasonableness of Proposed Services and Costs. To ensure that NEG funds are utilized in a manner consistent with the federal requirements and the state and local policies that apply to trade assistance programs in the proposed project area:

a. The indirect costs are justified by identifying: (1) The approved indirect cost rate and base; (2) the cognizant approval agency; and (3) the date of the approval.

b. Total administrative costs, exclusive of health coverage payment processing costs, are within the cost limitation.

c. The basis for administrative costs to process health coverage payments is justified.

Part VI: Funding Approaches

Applications for NEG funds can be funded in whole or in part. Applicants should assume that all NEGs will be funded incrementally. In addition, applicants may submit a request for NEG funding on an emergency basis. The conditions associated with each of these are described in the following sections.

A. Emergency Funding

Any event that qualifies for a Disaster project can be considered an emergency, if submitted within 15 days of FEMA public assistance declaration. A dislocation where no advance notification of layoff was provided to workers can also be considered an emergency. In emergency situations, the applicant may submit a streamlined application. An emergency application must be submitted within 15 calendar days of the emergency, unless logistical barriers (e.g., damaged communication systems resulting from a disaster event) prevent submission within this timeframe.

The following minimum submission requirements shall apply to an emergency funding request:

For Regular Projects:

—SF 424

—Project Synopsis Form (ETA 9106) (entries are not required for Planned Cost per

—Participant, Planned Entered Employment Rate, Planned Wage Replacement Rate and Project Operator Listing)

—Employer Data Form (ETA 9105)

For Disaster Projects:

—SF 424

—Project Synopsis Form (ETA 9106) (entries are not required for Planned Cost per Participant, Planned Entered Employment Rate, Planned Wage Replacement Rate and Project Operator Listing)

Where an emergency application is approved for funding, the applicant must submit a full application (i.e., consistent with the specifications in Part IV) within 60 calendar days of the date of the grant award. The SF 424 included in the full application submission should indicate a revision to an existing grant. Generally, no more than one-third of maximum approved funds will be released as a result of emergency applications.

B. Incremental Funding

As noted previously, applicants should expect that all NEG awards will be funded incrementally. In these cases, a maximum funding level will be approved by the Secretary, but a lesser amount will be initially awarded. The grantee will be required to submit, at a later date, a request(s) for the balance of needed funds, as supported by enrollments and expenditures. The maximum approved “up to” amount is not a commitment on the part of the Department to release the full amount when such funds are not documented as needed.

Requirements for additional funding increments will be specified in the grant award letter. For most projects, receipt of additional approved funding will be based on achieving a level of project implementation where a justifiable projection of additional funds needed to complete the project can be developed. This will generally occur when all planned participants have been enrolled and assessed, training and supportive service obligations are known, all proposed project staff are on-board, and there is 2-3 months of actual operating expenditure information. The follow-up increment(s) will be awarded based on submission of a request to release approved but not yet awarded funds by the grantee, and enrollments and expenditures support the need for release of additional funds.

The number of funding increments will be determined by the ability to develop a confident projection of full funding needs, whether there have been prior performance issues with the grantee or the project operator(s), or where the grantee and/or project operators do not have previous experience with NEGs or with projects of the size or complexity of the one proposed in the application. Prior performance issues can include: Participant and/or expenditure levels, performance outcomes, and compliance problems in project implementation. Resolution of applicable compliance or technical assistance issues will be a condition of the grant award and a pre-condition for receipt of additional funding increments.

Part VII: Post-Grant Award Requirements

A. Follow-up Planning Requirements

Each grantee will be required to develop a Project Operating Plan to reflect the approved project design and funding parameters in the grant award. The Project Operating Plan must be completed within 90 calendar days following grant award and be transmitted to the Regional Office upon completion. In cases of emergency grant awards, the Project Operating Plan will be due 60 calendar days following approval of the full application.

The Operating Plan must include the following elements:

1. Regular Projects

—Updated information since submission of the application that is not required in a grant modification:

—The layoff schedules (i.e., dates and number of affected workers) for all approved target group employers.

—Status and results of all required Rapid Response activities, as applicable.

Copies of signed agreements with each proposed Project Operator, including:

—A completed planning form (ETA 9103).

—A line item budget specifying costs for staff salaries and fringe benefits, staffs travel, facilities and communications, supplies, equipment, assessment and instructional materials, training, supportive services, indirect costs, Needs-related Payments, and administration of NRPs. Costs must be delineated between administrative and program costs.

—A staffing plan that describes proposed staffing by job title, full-time equivalent staff to be assigned, salary, and benefits rates for each staff position.

—Listing of all sites and organizations that will provide services to participants, including a description of service coordination arrangements with One-Stop Center operators and partners.

—Summary profile of the reemployment barriers that have been identified among the target group of participants and description of the implications of the profile on the project service design.

—Description of the job placement strategy for the project, including services to be provided to both participants and employers.

—Copy of local area service policies “ specifically training, supportive services and NRPs—that will be used on the project, as authorized to be modified by the grant award.

—Description of the role to be played by the local Workforce Investment Board(s) in management and oversight of the project.

—Description of the monitoring responsibilities and procedures that will be followed by the grantee.

If the grantee has requested administrative and project management funds in excess of the cost limitation,

—A workplan, line item budget and staffing for the activities to be undertaken.

2. Disaster Projects (Temporary Employment Component)

—Description of the coordination between FEMA (and other agencies, such as HUD and HHS) and the project including what services each entity is contributing towards the recovery needs of the affected area.

—Updated information on all community planning activities completed to date.

—Status of participant recruitment activities.

—Copies of signed agreements with each proposed Project Operator, including:

—A completed planning form (ETA 9103).

—A line item budget specifying costs for staff salaries and fringe benefits, staffs travel, supportive services, indirect, needs-related payments, and administration of NRPs. Costs must be delineated between administrative and program costs.

—A staffing plan that describes proposed staffing by job title, full—time equivalent staff to be assigned, salary, and benefits rates for each staff position.

—Worksite Plans detailing all planned worksites, by county, and including:

—Specific jobs to be performed and wage levels for each;

—Number of supervisors/crew leaders and ratio of supervisors/crew leaders to workers;

—Employer of record for the workers;

—Description of worksite training provided to workers;

—Identification of special equipment required to perform work and source of funding for the equipment;

—Description of the responsibilities for paying wages and the controls for ensuring participant time limits are complied with;

—Description of policies governing supportive services to participants; and

—Description of the monitoring responsibilities and procedures that will be followed by the grantee.

3. Trade-WIA Dual Enrollment Projects

—Updated information since submission of the application that is not required in a grant modification:

—The layoff schedules (i.e., dates and number of affected workers) for all approved target group employers.

—Status and results of all required Rapid Response activities, as applicable.

—Description of policies governing:

—Training services (if applicable), and

—Supportive services, including relocation assistance.

—Description of responsibilities and procedures for:

—Participant assessment,

—Participant employment planning, and

—Participant case management.

Where different state organization entities are responsible for administering the TAA and WIA programs:

—A description of the procedures that are being used to co-enroll and integrate funding sources into a single plan of assistance to project participants.

—Copies of signed agreements with each proposed Project Operator, including:

—A completed planning form (ETA 9103).

—A line item budget specifying costs for staff salaries and fringe benefits, staff travel, facilities and communications, supplies, equipment, assessment and instructional materials, training, supportive services, indirect, needs-related payments, and administration of NRPs. Costs must be delineated between administrative and program costs.

—A staffing plan that describes proposed staffing by job title, full-time equivalent staff to be assigned, salary, and benefits rates for each staff position.

—Listing of all sites and organizations that will provide services to participants, including a description of service coordination arrangements with One-stop Center operators and partners.

—Summary profile of the reemployment barriers that have been identified among the target group of participants and description of the implications of the profile on the project service design.

—Description of the job placement strategy for the project, including services to be provided to both participants and employers.

—Description of the monitoring responsibilities and procedures that will be followed by the grantee.

If the grantee has requested administrative funds in excess of the cost limitation:

—A workplan, line item budget and staffing for the administrative activities to be undertaken.

For each NEG, the Operating Plan will be one source of information to be reviewed by ETA staff in determining future funding needs for the project. The existence and completeness of the Operating Plan will be a pre-condition for the release of additional funding increments.

B. Project Oversight

In addition to the review of the Project Operating Plan, each project will be reviewed on-site at least once by ETA staff. The purpose of this review will be to verify core compliance factors such as participant eligibility and adequate financial management, assess the effectiveness of participant service policies and processes in achieving project performance goals, and evaluate the need for funds to complete the project. This review will occur between six months following the date of grant award and the project midpoint. This review will include the operations of both the grantee and the project operators. Where multiple project operators are involved, the grantee will be expected to participate in the review of operations at the project operator level.

For Disaster projects, on-site reviews will generally occur within six months of the grant award.

C. Project Performance Reporting

Each grant recipient will be required to submit electronically to the Grant Officer a Quarterly Report Form (ETA 9104) on actual performance to date. The report will include the same factors as the Cumulative Quarterly Planning Form (ETA 9103) in the grant document. A copy of this form is included in Appendix A. This report is due within 45 calendar days following the end of each Program Year quarter.

Part VIII: Grant Modifications

Grant modifications will be required in the following circumstances:

a. To include additional layoffs that are within the scope of the approved grant award;

b. To change the project performance period;

c. To add or change project operators;

d. Change contact individuals or information for the grantee or any project operator;

e. To change any of the project design parameters that results in an increase of more than 10 percent in the approved cost per participant;

f. To change the approved indirect cost rate;

g. To increase the amount of approved funding for supportive services, Needs-Related Payments and/or administration of Needs-Related Payments;

h. To lower the end-of-project performance goals.

i. To request an additional funding increment within the total funding approved by the Secretary

Requests under a, b, c or d that do not require a change in the amount of the approved grant award can be approved by the Regional Office. All other modifications requests will require the approval of the Grant Officer.

Grantees may request a modification to add new employers or layoffs in local areas that are not included in the approved grant award only if the modification is submitted within the same Program Year in which the grant award was made.

The content of the modification request will be determined by the nature of the requested change. As appropriate, revisions to applicable grant application forms and narrative will be submitted. Applicants will be notified of approval or non-approval of a complete request within 30 days of receipt by ETA.

In general, where there is a need to increase the amount of funding approved by the Secretary for a project, a new application for NEG funds must be submitted. These submission requirements have been identified in Part IV. B. There are limited cases where the need for additional funding can be accommodated through a modification to a funded project. These cases are:

—Adding the workforce investment employment-related services component to a Disaster project;

—Increasing the number of participants and/or costs (i.e., based on documented service needs) for the approved target group in the grant award based on project implementation;

—Adding to the approved target group additional eligible workers at the employer sites identified in the approved grant award.

Additions to the approved target group will be limited to employer sites identified in the approved grant and to workers who become eligible for assistance within 90 calendar days following the grant award.

In the above cases, all workers must be eligible and be able to be enrolled in the project within 180 days following grant award and will be expected to complete services within the approved project performance period, or as modified.

Any request for additional funding for a current project will require an approval decision by the Secretary.

BILLING CODE 4510-30-P

Appendix A—Application and Reporting Forms

BILLING CODE 4510-30-C

Appendix B—ETA Regional Administrators

Region 1

Mr. Joseph Stoltz, Regional Administrator, U.S. Department of Labor Employment and Training Administration, J.F.K. Federal Building, Room E-350, Boston, MA 02203, Phone: (617) 788-0170 Fax: (617) 788-0101, URL: http://www.doleta.gov/regions/reg01bos/.

Note: This Regional office serves the following states: Connecticut, Maine, Massachusetts, New Hampshire, Rhode Island, and Vermont.

Region 2

Ms. Lenita Jacobs-Simmons, Regional Administrator, U.S. Department of Labor ETA, Suite 825 East, The Curtis Center, 170 South Independence Mall West, Philadelphia, PA 19106, Phone: (215) 861-5200.

Note: This Regional office serves the following states: Delaware, Washington DC, Maryland, Pennsylvania, Virginia, and West Virginia.

Region 3

Helen N. Parker, Regional Administrator, U.S. Department of Labor Employment and Training Administration, Atlanta Federal Center, Rm. 6M12, 61 Forsyth Street, Atlanta, GA 30303, Phone: (404) 562-2092 Fax: (404) 562-2149.

Note: This Regional office serves the following states: Alabama, Florida, Georgia, Kentucky, Mississippi, North Carolina, South Carolina, and Tennessee.

Region 4

Joseph Juarez, Regional Administrator, U.S. Department of Labor Employment & Training Administration, 525 Griffin Street, Room 317, Dallas, TX 75202, Phone: (214) 767-8263 Fax: (214) 767-5113, Email: juarez.joseph@dol.gov.

Note: This Regional office serves the following states: Arkansas, Louisiana, New Mexico, Oklahoma, Colorado, Montana, North Dakota, South Dakota, Utah, Wyoming, and Texas.

Region 5

Byron Zuidema, Regional Administrator, U.S. Department of Labor Employment & Training Administration, 230 South Dearborn Street, Room 638, Chicago, IL 60604, Phone: (312) 353-0313 Fax: (312) 353-4474, Email: zuidema.bryon@dol.gov.

Note: This Regional office serves the following states: Illinois, Indiana, Michigan, Minnesota, Ohio, Iowa, Kansas, Missouri, Nebraska, and Wisconsin.

Region 6

John Humphreys, Acting Regional Administrator, U.S. Department of Labor Employment & Training Administration, P.O. Box 193767 71 Stevenson St., Suite 830, San Francisco, CA 94119-3767, Phone: (415) 975-4610 Fax: (415) 975-4612.

Note: This Regional office serves the following states: Arizona, California, Hawaii, Nevada, Alaska, Idaho, Oregon, Washington, and Guam.

[FR Doc. 04-9338 Filed 4-26-04; 8:45 am]

BILLING CODE 4510-30-P